DEPARTMENT OF DEFENSE

Office of the Secretary

[Docket ID DOD-2019-OS-0017]

Privacy Act of 1974; System of Records

AGENCY: Washington Headquarters Services, DoD.

ACTION: Rescindment of a System of Records Notice.

SUMMARY: The Office of the Secretary of Defense proposes to rescind System of Records Notice, Correspondence and Task Management System (CATMS), DWHS E06. This information system tracks communications with the Office of the Secretary of Defense (OSD) and coordinates correspondence and staff packages, and does not meet the standard for a Privacy Act system of records.

DATES: Comments will be accepted on or before April 8, 2019. This proposed action will be effective on the date following the end of the comment period unless comments are received which result in a contrary determination. A review of this system was conducted on April 4, 2017, and during this review it was determined that the system does not meet the standard for a Privacy Act system of records. Records are retrieved by alphanumeric reference numbers, not by individual name or other personal identifier.

ADDRESSES: You may submit comments, identified by docket number and title, by any of the following methods:

* Federal Rulemaking Portal: http://www.regulations.gov. Follow the instructions for submitting comments.

* Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Submit general questions about the rescinded system to Mrs. Luz D. Ortiz, Chief, Records, Privacy and Declassification Division (RPDD), 1155 Defense Pentagon, Washington, DC 20301-1155, or by phone at (571) 372-0478.

SUPPLEMENTARY INFORMATION: Based on a recent review, it was determined that the Department of Defense (DoD) CATMS system used for tracking actions taken and responses from the Office of the Secretary of Defense to the President, White House, other Cabinet officials, Congress, state and local officials, corporate officials, members of the Defense Department, and the public does not constitute a Privacy Act system of records. The records within CATMS are about packages being processed and/or coordinated within DoD rather than individuals. While some of these packages within CATMS might include information that may reference individuals, the packages are not retrieved or retrievable by an individual's name or other personal identifier. Instead, CATMS records are retrieved by action or task identification number.

The Office of the Secretary systems of records notices subject to the Privacy Act of 1974 (5 U.S.C. 552a), as amended, have been published in the Federal Register and are available from the address in FOR FURTHER INFORMATION CONTACT or at the Defense Privacy, Civil Liberties, and Transparency Division website at http://defense.gov/privacy.

The proposed systems reports, as required by the Privacy Act of 1974, as amended, were submitted on October 19, 2018, to the House Committee on Oversight and Government Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

SYSTEM NAME AND NUMBER:

Correspondence and Task Management System (CATMS), DWHS E06.

HISTORY:

August 19, 2009, 74 FR 41870; September 13, 2012, 77 FR 56629; April 9, 2014, 79 FR 19583.

Dated: March 1, 2019.
Aaron T. Siegel,
Alternate OSD Federal Register Liaison Officer, Department of Defense.

[FR Doc. 2019-04093 Filed 3-6-19; 8:45 am]

BILLING CODE 5001-06-P